DEPARTMENT OF COMMERCE

International Trade Administration

Civil Nuclear Energy Export Opportunity Seminar

AGENCY: International Trade Administration, DOC.

ACTION: Notice of Civil Nuclear Energy Export Opportunity Seminar.

SUMMARY: This notice sets forth the proposed agenda for a Civil Nuclear Energy Export Opportunity Seminar.

DATES: The meeting is scheduled for Monday, May 11, 2015, at 1:00 p.m. Pacific Daylight Time (PDT).

ADDRESSES: The meeting will be held at the Washington Athletic Club, 1325 Sixth Ave, Seattle, WA 98101.

FOR FURTHER INFORMATION CONTACT: Mr. Jonathan Chesebro, Office of Energy & Environmental Industries, ITA, Room 4053, 1401 Constitution Ave. NW., Washington, DC 20230. (Phone: 202-482-1297; Fax: 202-482-5665; email: jonathan.chesebro@trade.gov).

SUPPLEMENTARY INFORMATION:

Background

Hosted by the U.S. Department of Energy, National Nuclear Security Administration (NNSA), the purpose of this event is to provide a forum for U.S. Government (USG) officials to brief companies on recent developments in U.S. civil nuclear export controls, 123 Agreements for Peaceful Nuclear Cooperation, and export market opportunities. There will also be a Question and Answer session regarding these topics. This is an opportunity to hear from USG experts on these topics to get information on U.S. civil nuclear export opportunities. Additional Export Opportunity Seminars will be scheduled in other U.S. cities in the next few months.

Topics to be considered: The agenda for the Monday, May 11, 2015 Civil Nuclear Energy Export Opportunity Seminar is as follows:

1:00 p.m.-5:00 p.m.

1:00-1:15—Introduction—USG Support for the U.S. Civil Nuclear Industry U.S. Department of Commerce, International Trade Administration (ITA), Office of Energy & Environmental Technologies

1:15-1:45—123 Agreements for Peaceful Nuclear Cooperation

Richard Stratford—Director, Office of Nuclear Energy, Safety & Security—U.S. Department of State

1:45-2:30—Part 810 Export Control Rule

Rich Goorevich/Katie Strangis—U.S. Department of Energy, National Nuclear Security Administration (NNSA)

2:30-3:00—Part 110 Export Control Rule

Brooke Smith—Chief, Export Controls & Nonproliferation Branch, Nuclear Regulatory Commission (NRC)

3:00-3:30—Export Administration Regulations

Steven Clagett—Director, Nuclear and Missile Technology Division, Bureau of Industry and Security (BIS), U.S. Department of Commerce

3:30-4:00—Demonstration of Part 810 e-licensing system (e810)

4:00-5:00—Question & Answer Session

The meeting will be disabled-accessible. Seating is limited and available on a first-come, first-served basis.

How to RSVP

Email your name, title and organization to jonathan.chesebro@trade.gov by 5:00 p.m. Eastern Time on Friday May 8. The event is free but space is limited. Light refreshments will be provided.

Edward A. O'Malley,
Director, Office of Energy and Environmental Industries.

[FR Doc. 2015-10172 Filed 4-30-15; 8:45 am]

BILLING CODE 3510-DR-P